DEPARTMENT OF HEALTH AND HUMAN SERVICES

Meeting of the National Biodefense Science Board

AGENCY: Office of the Secretary, Department of Health and Human Services.

ACTION: Notice.

SUMMARY: As stipulated by the Federal Advisory Committee Act, the Department of Health and Human Services (HHS) is hereby giving notice that the National Biodefense Science Board (NBSB) will be holding a public meeting on April 29, 2014.

DATES: The April 29, 2014, NBSB public meeting is tentatively scheduled from 9:00 a.m. to 11:00 a.m. EST. The agenda is subject to change as priorities dictate. Please check the NBSB Web site, located at WWW.PHE.GOV/NBSB, for the most up-to-date information on the meeting.

ADDRESSES: Thomas P. O'Neil Federal Office Building, 200 C Street SW Washington, DC 20024. To attend via teleconference, call toll-free 888-989-9728, international dial-in 1-517-308-9118, pass-code 5150747. Please call 15 minutes prior to the beginning of the conference call to facilitate attendance. Pre-registration is required for public attendance. Individuals who wish to attend the meeting in person should submit an inquiry via the NBSB Contact Form located at www.phe.gov/NBSBComments.

FOR FURTHER INFORMATION CONTACT: Please submit an inquiry via the NBSB Contact Form located at www.phe.gov/NBSBComments.

SUPPLEMENTARY INFORMATION: Pursuant to section 319M of the Public Health Service Act (42 U.S.C. 247d-7f) and section 222 of the Public Health Service Act (42 U.S.C. 217a), HHS established the NBSB. The Board shall provide expert advice and guidance to the Secretary on scientific, technical, and other matters of special interest to HHS regarding current and future chemical, biological, nuclear, and radiological agents, whether naturally occurring, accidental, or deliberate. The Board may also provide advice and guidance to the Secretary and/or the Assistant Secretary for Preparedness and Response (ASPR) on other matters related to public health emergency preparedness and response.

Background: This public meeting will be dedicated to swearing in the six new voting members who will replace the members whose 3-year terms will expire on April 30, 2014. A portion of this meeting will be dedicated to the NBSB's deliberation and vote on the recommendations from the NBSB's Future of the NBSB Working Group. The NBSB will also deliberate and vote on a new task for the long term strategy that supports the ASPR and HHS in the context of preparedness and response. Subsequent agenda topics will be added as priorities dictate.

Availability of Materials: The meeting agenda and materials will be posted on the NBSB Web site at www.phe.gov/nbsb prior to the meeting.

Procedures for Providing Public Input: All written comments must be received prior to April 29, 2014. Please submit comments via the NBSB Contact Form located at www.phe.gov/NBSBComments. Individuals who plan to attend and need special assistance, such as sign language interpretation or other reasonable accommodations, should submit a request via the NBSB Contact Form located at www.phe.gov/NBSBcomments.

Dated: April 9, 2014.
Nicole Lurie,
Assistant Secretary for Preparedness and Response.

[FR Doc. 2014-08427 Filed 4-11-14; 8:45 am]

BILLING CODE P